DEPARTMENT OF HEALTH AND HUMAN SERVICES

Substance Abuse and Mental Health Services Administration

Notice: Amendment of Meeting Time

Pursuant to Public Law 92-463, notice is hereby given of an amendment of the meeting of the Substance Abuse and Mental Health Services Administration (SAMHSA) National Advisory Council to be held on May 11-12, 2010.

Public notice was published in the Federal Register on April 27, 2010, Vol. 75, No. 80, page 22147, announcing that the SAMHSA National Advisory Council would be convening on May 11-12, 2010, at 1 Choke Cherry Road, in Rockville, Maryland. The meeting can also be accessed by webstream. The time of the meeting changed. The May 11 meeting will be held from 9 a.m. to 5:15 p.m. Eastern Standard Time. The May 12 meeting will be held from 8:30 a.m. to 3 p.m. Eastern Standard Time. The agenda of the meeting and contact for additional information remain as announced.

Toian Vaughn,
Committee Management Officer, Substance Abuse and Mental Health, Services Administration.

[FR Doc. 2010-11390 Filed 5-12-10; 8:45 am]

BILLING CODE 4162-20-P